DEPARTMENT OF HOMELAND SECURITY

Transportation Security Administration

49 CFR Part 1580

[Docket No. TSA-2006-26514; Amendment Nos. 1520-7, 1580-2]

RIN 1652-AA51

Rail Transportation Security

AGENCY: Transportation Security Administration (TSA), DHS.

ACTION: Final rule; correcting amendments.

SUMMARY: This action contains minor technical corrections to the Rail Transportation Security final rule, which was published on November 26, 2008. That document incorrectly referenced certain paragraphs in various sections of 49 CFR part 1580 and included an incorrect telephone number for reporting significant security concerns to TSA. This document corrects the final regulations by revising these paragraph citations and providing the appropriate telephone number.

DATES: This correction is effective on May 20, 2009.

FOR FURTHER INFORMATION CONTACT: David H. Kasminoff, Office of Chief Counsel, TSA-2, Transportation Security Administration, 601 South 12th Street, Arlington, VA 20598-6002; telephone (571) 227-3583; facsimile (571) 227-1378; e-mail david.kasminoff@dhs.gov.

SUPPLEMENTARY INFORMATION:

I. Background

On November 26, 2008 (73 FR 72131), TSA issued a final rule to enhance the security of our Nation's rail transportation system. This rule established security requirements for freight railroad carriers; intercity, commuter, and short-haul passenger train service providers; rail transit systems; and rail operations at certain, fixed-site facilities that ship or receive specified hazardous materials by rail. As published, the regulatory text in the final rule contains several incorrect references to other provisions in the rule. First, the rule as published, in stating that §§ 1580.100, 1580.101, and 1580.105 apply to a freight railroad carrier hosting a passenger operation described in § 1580.1, incorrectly cites to nonexistent paragraph (d) in § 1580.1, instead of paragraph (a)(4). Second, § 1580.103(g), which requires each person described in paragraph (a) of that section to provide a telephone number for TSA to use to request location and shipping information, incorrectly refers to information required in paragraph (a)(4) of § 1580.103 instead of paragraph (c). Third, § 1580.103(g)(2), in stating that a covered person may not provide a telephone number that requires a call back (such as an answering service, answering machine, or beeper device) to meet the requirements of § 1580.103, incorrectly refers to paragraph (f) of that section instead of paragraph (g). Fourth, § 1580.107(a), in referencing the paragraph that contains an exception to the requirements imposed upon a rail hazardous materials shipper transferring to a rail car containing rail security-sensitive materials to a railroad carrier, incorrectly refers to paragraph (e) of § 1580.107 instead of paragraph (g). This final rule correction replaces the incorrect citations with the correct ones.

Finally, the telephone numbers provided in §§ 1580.105(b) and 1580.203(b) of the final rule for reporting significant security concerns to DHS have been changed. The new telephone number at the TSA Freedom Center designated to receive reports of significant security concerns is 1-866-615-5150. This final rule correction inserts the correct telephone number in the rule text.

List of Subjects in 49 CFR Part 1580

Hazardous materials transportation, Mass transportation, Rail hazardous materials receivers, Rail hazardous materials shippers, Rail transit systems, Railroad carriers, Railroad safety, Railroads, Reporting and recordkeeping requirements, Security measures.

II. Corrections to the Rule

Accordingly, 49 CFR part 1580 is corrected by making the following correcting amendments:

PART 1580—RAIL TRANSPORTATION SECURITY

1. The authority citation for part 1580 continues to read as follows:

Authority: 49 U.S.C. 114.

2. In § 1580.100, paragraph (a)(4) is correctly revised to read as follows:

§ 1580.100 Applicability.

(a) * * *

(4) Each freight railroad carrier hosting a passenger operation described in § 1580.1(a)(4) of this part.

* * * * *

3. In § 1580.101, paragraph (a)(4) is correctly revised to read as follows:

§ 1580.101 Rail security coordinator.

(a) * * *

(4) Each freight railroad carrier hosting the passenger operations described in § 1580.1(a)(4) of this part.

* * * * *

4. In § 1580.103, paragraphs (g) introductory text and (g)(2) are correctly revised to read as follows:

§ 1580.103 Location and shipping information for certain rail cars.

* * * * *

(g) Telephone number. Each person described in paragraph (a) of this section must provide a telephone number for use by TSA to request the information required in paragraph (c) of this section.

* * * * *

(2) A telephone number that requires a call back (such as an answering service, answering machine, or beeper device) does not meet the requirements of this paragraph.

* * * * *

5. In § 1580.105, paragraphs (a)(4) and (b) are correctly revised to read as follows:

§ 1580.105 Reporting significant security concerns.

(a) * * *

(4) Each freight railroad carrier hosting a passenger operation described in § 1580.1(a)(4) of this part.

* * * * *

(b) Each person described in paragraph (a) of this section must immediately report potential threats and significant security concerns to DHS by telephoning the Freedom Center at 1-866-615-5150.

* * * * *

6. In § 1580.107, paragraph (a) introductory text is correctly revised to read as follows:

§ 1580.107 Chain of custody and control requirements.

(a) Within or outside of an HTUA, rail hazardous materials shipper transferring to carrier. Except as provided in paragraph (g) of this section, at each location within or outside of an HTUA, a rail hazardous materials shipper transferring custody of a rail car containing one or more of the categories and quantities of rail security-sensitive materials to a freight railroad carrier must:

* * * * *

7. In § 1580.103, paragraph (b) is correctly revised to read as follows:

§ 1580.203 Reporting significant security concerns.

* * * * *

(b) Each person described in paragraph (a) of this section must immediately report potential threats and significant security concerns to DHS by telephoning the Freedom Center at 1-866-615-5150.

* * * * *

Issued in Arlington, Virginia, on May 13, 2009.
Gale D. Rossides,
Acting Administrator.

[FR Doc. E9-11736 Filed 5-19-09; 8:45 am]

BILLING CODE 9110-05-P